DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before June 1, 2015. Address written comments to Statutory Import Programs Staff, Room 3720, U.S. Department of Commerce, Washington, DC 20230. Applications may be examined between 8:30 a.m. and 5:00 p.m. at the U.S. Department of Commerce in Room 3720.

Docket Number: 15-005. Applicant: Idaho National Laboratory, 2525 Fremon Avenue, Idaho Falls, ID 83415. Instrument: Electron Microscope. Manufacturer: FEI, Czech Republic. Intended Use: The instrument will be used to analyze a wide range of materials, including nuclear fuel as well as structural materials that have been irradiated, to better understand the performance and characteristics of the material, improve the material, as well as solve nuclear material disposal issues. Justification for Duty-Free Entry: There are no instruments of the same general category manufactured in the United States. Application accepted by Commissioner of Customs: March 3, 2015.

Docket Number: 15-010. Applicant: Howard Hughes Medical Institute, 4000 Jones Bridge Road, Chevy Chase, MD 20815. Instrument: Electron Microscope. Manufacturer: JEOL Ltd., Japan. Intended Use: The instrument will be used to examine the structure of biological specimens such as protein complexes, noninfectious viruses and small cells, to help elucidate their function. Justification for Duty-Free Entry: There are no instruments of the same general category manufactured in the United States. Application accepted by Commissioner of Customs: March 4, 2015.

Docket Number: 15-011. Applicant: University of South Alabama, 150 Jaguar Drive, Shelby Hall 4134, University of South Alabama, Mobile, AL 36688. Instrument: Electron Microscope. Manufacturer: FEI Czech Republic s.r.o., Czech Republic. Intended Use: The instrument will be used to utilize nanoscale measurements to determine the relation between the structure and function of hard and soft materials, as well as to understand how nanoscale geometries contribute to subcellular events in soft materials that constitute biological systems. Justification for Duty-Free Entry: There are no instruments of the same general category manufactured in the United States. Application accepted by Commissioner of Customs: March 10, 2015.

Docket Number: 15-012. Applicant: Albert Einstein College of Medicine of Yeshiva University, 1300 Morris Park Avenue, Bronx, NY 10461. Instrument: Electron Microscope. Manufacturer: JEOL Ltd., Japan. Intended Use: The instrument will be used to capture fine structure modifications induced during cell motility or cellular secretion, and observe morphological changes in sub-cellular organelles (late endosomes and lysosomes) during various experimental conditions. Justification for Duty-Free Entry: There are no instruments of the same general category manufactured in the United States. Application accepted by Commissioner of Customs: March 17, 2015.

Docket Number: 15-014. Applicant: Johns Hopkins University, 3400 North Charles Street, Room 102 Dunning Hall, Baltimore, MD 21218. Instrument: Electron Microscope. Manufacturer: FEI Company, the Netherlands. Intended Use: The instrument will be used to understand the role of proteins in various cell processes by establishing their 3D structure through routine protein crystallography. Justification for Duty-Free Entry: There are no instruments of the same general category manufactured in the United States. Application accepted by Commissioner of Customs: March 20, 2015.

Docket Number: 15-016. Applicant: Rutgers University, 89 French Street, New Brunswick, NJ 08901. Instrument: LN Microscope. Manufacturer: Luigs Neumann, Germany. Intended Use: The instrument will be used to identify specific alterations in synaptic transmission that lead to neuropsychiatric or neurological disorders, using a technique called patch clamp, which uses a glass pipette to patch a microscopic area of the cell membrane (diameter −1 micrometer) and then record the electrophysiological signals generated by the cell. The stability of micromanipulation this instrument is capable of and the clarity in identifying specific cell types in live brain slices will address the fine synaptic regulation differences between normal neurons and neurons carrying diseased genes that may cause autism, schizophrenia and other neuropsychiatric disorders. It will allow chances of recording from neurons for a longer time which allows testing of the effects of more compounds which may help to cure neurological or neuropsychiatric disorders. Justification for Duty-Free Entry: There are no instruments of the same general category manufactured in the United States. Application accepted by Commissioner of Customs: April 17, 2015.

Docket Number: 15-017. Applicant: City University of New York, 205 East 42nd Street, Room 11-64, New York, NY 10017. Instrument: Electron Microscope. Manufacturer: FEI Company, Japan. Intended Use: The instrument will be used to understand the structural mechanism by which macromolecular complexes, organelles and cells carry out their actions, and to design inhibitors/activators to alter their activity which can be used to treat diseases associated with the activity of the macromolecular complexes. Justification for Duty-Free Entry: There are no instruments of the same general category manufactured in the United States. Application accepted by Commissioner of Customs: April 24, 2015.

Docket Number: 15-018. Applicant: City University of New York, 205 East 42nd Street, Room 11-64, New York, NY 10017. Instrument: Electron Microscope. Manufacturer: FEI Company, Japan. Intended Use: The instrument will be used to understand the structural mechanism by which macromolecular complexes, organelles and cells carry out their actions, and to design inhibitors/activators to alter their activity which can be used to treat diseases associated with the activity of the macromolecular complexes. Justification for Duty-Free Entry: There are no instruments of the same general category manufactured in the United States. Application accepted by Commissioner of Customs: April 24, 2015.

Dated: May 4, 2015.
Gregory W. Campbell,
Director of Subsidies Enforcement, Enforcement and Compliance.

[FR Doc. 2015-11345 Filed 5-8-15; 8:45 am]

BILLING CODE 3510-DS-P